NUCLEAR REGULATORY COMMISSION

[Docket No. 40-8905]

Finding of No Significant Impact and Notice of Availability of the Environmental Assessment Addressing a License Amendment Request To Approve Rio Algom LLC's Plan To Demolish Its Mill at Its Ambrosia Lake Uranium Mill Tailings Impoundment Located in Mckinley County, NM

AGENCY: Nuclear Regulatory Commission.

ACTION: Notice of availability of an environmental assessment and Finding of No Significant Impact.

FOR FURTHER INFORMATION CONTACT: Jill Caverly, Fuel Cycle Facilities Branch, Division of Fuel Cycle Safety and Safeguards, Office of Nuclear Material Safety and Safeguards, U.S. Nuclear Regulatory Commission, Mail Stop T8-A33, Washington, DC 20555-0001, telephone (301) 415-6699 and e-mail jsc1@nrc.gov.

SUPPLEMENTARY INFORMATION:

I. Introduction

The U.S. Nuclear Regulatory Commission (NRC) is considering the issuance of an amendment to Rio Algom Mining LLC's (Rio Algom) Source Materials License SUA-1473. The proposed action would allow Rio Algom to begin demolition of the uranium mill buildings at the Ambrosia Lake uranium facility. The proposed action is in accordance with the licensee's plan dated December 10, 2002, as revised by additional information sent, at the staff's request, on March 27, 2003 and September 17, 2003.

Pursuant to the requirements of 10 CFR part 51, Environmental Protection Regulations for Domestic Licensing and Related Regulatory Functions, the NRC has prepared an environmental assessment (EA) to evaluate the environmental impacts associated with this request. Based on this evaluation, the NRC has concluded that a Finding of No Significant Impact (FONSI) is appropriate for the proposed licensing action.

II. EA Summary

The EA was prepared to evaluate the environmental impacts associated with Rio Algom's plan to demolish the mill at its Ambrosia Lake uranium facility. The objectives of the Mill Demolition Plan are to: (1) Perform mill demolition activities in a manner that protects employee health and safety and the environment; (2) release equipment or packages from the restricted area for unrestricted release and do so in accordance with NRC decommissing criteria and approved Mill Demolition Plan; (3) transfer equipment to another NRC-licensed facility in accordance with applicable Federal laws and regulations; (4) perform work following established operating procedures; and (5) dispose of byproduct material in accordance with the source material license.

The Demolition Plan addresses the removal of surface structures in preparation for subsequent implementation of the surface reclamation soil cleanup release phase of the overall site decommissioning process. The Demolition Plan does not address the soil cleanup criteria that would be used as part of license termination and transfer to the site long-term custodian.

Prior to the start of mill demolition, the mill facilities and equipment in the immediate area would be washed down to minimize potential residual contamination. Any salvageable materials would be surveyed and if required, decontaminated until established release levels are obtained. Salvageable materials would be placed in a designated salvage area. Mill dismantling and washing would occur in accordance with NRC approved demolition plan. Contaminated equipment would be dismantled/broken up and buried in the approved disposal areas. Uncontaminated underground foundation, utilities and pipelines that are more than 2 feet below final grade would be buried in place. These foundations and pipes may be left in place if they are characterized and released in a manner consistent with 10 CFR part 40, appendix A, criterion 6(6). Areas where Rio Algom expects to leave foundations intact include the lower portions of the thickeners, any basement type area, and any foundations that extend 2 feet below existing grade. Underground cavities that are below grade, such as the crushing circuit from the primary crusher to the transfer house, would remain in place and would be backfilled. The final grade (contour) is projected to approximate the existing surface elevation in the mill area.

Disposal of all demolition waste that is classified as 11e.(2) byproduct material, as defined by the Atomic Energy Act of 1954 (AEA), as amended, would be performed in accordance with approved disposal practices as authorized by License Conditions 30, 32, 36, and 41 with the following modification. Disposal areas would be restored in accordance with License Condition 41(I), which requires Rio Algom to submit a final reclamation plan upon the end of milling operations. Rio Algom anticipates that reclamation efforts in areas where mill demolition debris would be disposed would involve either the placement of an engineered cover to control radon emissions or alternate release criteria would be requested.

Surplus chemicals/materials would be removed for sale or disposal prior to demolition of the area where these materials may be present. All gear boxes, transformers, motors, etc., would be drained prior to demolition with the drained material disposed of in accordance with applicable regulations.

A demolition schedule would be developed between site management and the selected demolition contractor and would take into consideration safety, radiation protection, personnel availability, salvage potential, contamination control, and weather constraints. At a minimum, any regulated asbestos containing materials would be abated from a structure prior to commencing structure demolition.

III. Finding of No Significant Impact

Pursuant to 10 CFR part 51, the NRC has prepared the EA, summarized above. The staff has determined that no ground water impacts are expected from building dismantlement and deconstruction. There will be no deep excavations that could potentially impact ground water. Waste management activities will be implemented for gaseous effluents, liquid and solid wastes. Air particulate (dust) created by the mill demolition will be reduced by pre-washing all facility components. Liquid wastes used during the demolition will be isolated by creating a decontamination area for equipment washing. This area will either be enclosed with a sump or water containment system or will be a building slab from a previously dismantled building. All wash water will be collected and disposed of within lined evaporations cells. Solid waste generated during demolition will be separated into contaminated and uncontaminated. Uncontaminated wastes will be disposed of within a landfill owned by Rio Algom under regulation of the State of New Mexico.

Contaminated waste will be disposed of in the mill tailings disposal area in accordance with NRC regulations. Management of material contaminated with asbestos will be performed by specialized contractors experienced in decontamination and handling of asbestos. Additionally, the staff has determined that no historic or cultural resources and ecological resources would be impacted. The U.S. Fish and Wildlife Service has concurred that no threatened or endangered habitat has been impacted.

The proposed NRC approval of the action when combined with known effects on resource areas at the site, including further site remediation, is not anticipated to result in any cumulative impacts at the sites. Therefore, the NRC staff has concluded that there will be no significant environmental impacts on the quality of the human environment and, accordingly, the staff has determined that preparation of an Environmental Impact Statement is not warranted.

IV. Further Information

The EA for this proposed action, as well as the licensee's request, as supplemented and revised, are available electronically for public inspection in the NRC's Public Document Room or from the Publicly Available Records (PARS) component of NRC's document system (ADAMS). ADAMS is accessible from the NRC Web site at http://www.nrc.gov/reading-rm/adams.html. The ADAMS Accession Numbers for the licensee's request, as supplemented and revised, are: ML030940616 and ML030940279. The ADAMS Accession Number for the EA summarized above is ML032720534. Most of the documents referenced in the EA are also available through ADAMS. Documents can also be examined and/or copied for a fee, at the NRC's Public Document Room, located at One White Flint North, 11555 Rockville Pike, Rockville, MD 20852.

Dated at Rockville, Maryland, this 6th day of October, 2003.
For the Nuclear Regulatory Commission,
Robert Nelson,
Chief, Fuel Cycle Facilities Branch, Division of Fuel Cycle Safety and Safeguards, Office of Nuclear Material Safety and Safeguards.

[FR Doc. 03-25987 Filed 10-14-03; 8:45 am]

BILLING CODE 7590-01-P